DEPARTMENT OF HOUSING AND URBAN DEVELOPMENT

[Docket No. FR 4905-N-02

Notice of Proposed Information Collection: Comment Request; Housing Discrimination Information Form HUD-903.1, HUD 903.1A, HUD-903-1B, HUD-903.1F, HUD-903.1K

AGENCY: Office of the Assistant Secretary for Fair Housing and Equal Opportunity, HUD.

ACTION: Action.

SUMMARY: The proposed information collection requirement concerning the Housing Discrimination Information Form HUD-903.1, HUD 903.1A, HUD-903-1B, HUD-903.1F, and HUD-903.1K will be submitted to the Office of Management and Budget (OMB) for review, as required by the Paperwork Reduction Act. HUD is soliciting public comments on the subject proposal.

DATES: Comments Due Date: August 23, 2004.

ADDRESSES: Interested persons are invited to submit comments regarding this proposal. Comments should refer to the proposal by name and/or OMB Control Number, and should be sent to Surrell S. Silverman, Reports Liaison Officer, U.S. Department of Housing and Urban Development, 451-7th Street, SW., Room 5124, Washington, DC 20410. Telephone number: (202) 708-4150.

FOR FURTHER INFORMATION CONTACT: Elizabeth Frank, U.S. Department of Housing and Urban Development, 451—7th Street, SW., Washington, DC 20410, Room 5206, telephone: (202) 619-8041. (This is not a toll-free number). Hearing or speech-impaired individuals may access this number TTY by calling the toll-free Federal Information Relay Service at 1-800-877-8399.

SUPPLEMENTARY INFORMATION: HUD is submitting the proposed information collection to the OMB for review, as required by the Paperwork Reduction Act of 1995 (44 U.S.C. chapter 35, as amended).

This notice is soliciting comments from members of the public and affected agencies concerning the proposed collection of information for: (1) the collection of information relative to the Fair Housing Act (Act). The Act prohibits discrimination in the sale, rental, advertising, and insuring of residential dwellings, and in residential real estate-related transactions, based on race, color, religion, sex, handicap [disability], familial status, or national origin.

Any person who claims to have been injured by a discriminary housing practice, or who believes that he or she will be injured by a discriminatory housing practice that is about to occur, may file a complaint with HUD not later than one year after the alleged discriminatory housing practice occurred or terminated. (2) Form HUD-903.1 was developed in order to promote consistency in the documents that, by statute, must be provided to persons against whom complaints are filed, as well as for the convenience of the general public. Section 103.25 of HUD's Fair Housing Act regulation describes the information that must be included in each complaint filed with HUD. For purposes of meeting the Act's one-year time limitation for filing complaints with HUD, complaints need not initially be submitted on the Form that HUD provides. (3) Housing Discrimination Complaint Form HUD-903.1 (English language), HUD-903.1A (Spanish language), HUD-903-1B (Chinese language), HUD-903.1F (Vietnamese language), and HUD.903.1K (Korean language) may be filed by mail, in person, by telephone, or via the Internet with HUD's Office of Fair Housing and Equal Opportunity (FHEO). FHEO staff uses the information provided on the Form to verify HUD's authority [jurisdiction] to investigate the complainant's allegations under the Act.

Notice of Submission of Proposed Information Collection to OMB

Title of Proposal: Housing Discrimination Information Form.

Office: Fair Housing and Equal Opportunity, HUD.

OMB Control Number: 2529-0011.

Description of the need for the information and proposed use: The Housing Discrimination Information Form (Form) is used for the collection of pertinent information from persons who wish to file housing discrimination complaints with HUD under the Fair Housing Act (Act). The Act makes it unlawful to discriminate in the sale, rental, advertising, or insuring of residential dwellings, or to discriminate in residential real estate-related transactions, based on race, color, religion, sex, handicap [disability], familial status, or national origin.

Any person who claims to have been injured by a discriminatory housing practice, or any person who believes that he or she will be injured by a discriminatory housing practice that is about to occur, may file a complaint with HUD not later than one year after the alleged discriminatory housing practice occurs or terminates. The Form promotes consistency in the collection of information necessary to contact persons who file housing discrimination complaints with HUD, and in the collection of information necessary for making initial assessments of HUD's authority [jurisdiction] to investigate under the Act.

This information may subsequently be provided to persons against whom complaints are filed [“respondents”], as required under the Act.

Agency form numbers, if applicable: Form HUD-903.1 (English), HUD-903.1A (Spanish), HUD-903-1B (Chinese), HUD-903.1F (Vietnamese), and HUD-903.1K (Korean).

Members of affected public: Individuals or households, businesses or other for-profit, not-for-profit institutions, State, Local, or Tribal Governments.

Estimation of the total number of hours needed to prepare the information collection, including the number of respondents, frequency of response, and hours of responses:

HUD estimates that during the course of a year, approximately 10,750 housing discrimination complaints are submitted to HUD. HUD further estimates that a complainant takes approximately 20 minutes to complete the Form. The Form is completed once by each complainant. Therefore, the total number of annual burden hours for this Form is 3583 hours.

10,750 × 1 (frequency) × 20 minutes = 3583 hours.

There is no annualized cost to complainants. Complainants submit the Form to HUD by mail, using a postage-paid mailer at no cost to the complainant. Complainants also may submit the Form to HUD electronically via the Internet.

Status of the proposed information collection: Reinstatement of a currently approved revised collection to reflect the collection of information from persons wishing to file Fair Housing Act complaints with HUD.

Authority: The Paperwork Reduction Act of 1995 (44 U.S.C. chapter 35, as amended).

Dated: June 16, 2004.
Turner Russell,
Director, Enforcement Division.

[FR Doc. 04-14130 Filed 6-22-04; 8:45 am]

BILLING CODE 4210-28-M